DEPARTMENT OF AGRICULTURE

Forest Service

Griffin Springs Resource Management Project, Dixie National Forest, Garfield County, Utah

AGENCY: Forest Service, USDA.

ACTION: Revised Notice of Intent (NOI) to prepare an Environmental Impact Statement. (The original Notice of Intent was published on November 16, 1998 and a revised NOI changing the project name from Aquarius Ecosystem Restoration Project (AERP) to Griffin Springs Resource Management Project (GSRMP) was published on July 26, 1999.) Comments originally collected under the NOI for the Aquarius Ecosystem Restoration Project will be used for the Griffin Springs Resource Management Project.

SUMMARY: The Dixie National Forest, Garfield County, Utah, announced November 16, 1998, its intent to prepare an Environmental Impact Statement (EIS) that would analyze management proposals within the Aquarius Ecosystem Restoration Project. Because a portion of the area was affected by 36 CFR part 212, Administration of the Forest Development Transportation System: Temporary Suspension of Road Construction and Reconstruction in Unroaded Areas, and there are existing roadless areas within the project area, the project area was divided into smaller decision blocks. A Revised NOI for the Griffin Springs Resource Management Project was published in the Federal Register on July 26, 1999. Comments received during the AERP scoping period or in response to the original or revised NOI will be addressed in the GSRMP analysis. Since the revised NOI was published the GSRMP proposed actions and analysis area have been changed. The southern portion of the analysis area located on Barney Top has also been made a separate decision block, and the analysis area has been expanded to include an adjacent area located in section 8, T33S; R1E; SLBM that is experiencing tree mortality from bark beetles. The Proposed Action now includes sanitation and salvage harvesting that would remove spruce beetle infested trees and recently killed trees on 714 acres. Implementation of the GSRMP would not require new road construction.

The proposed action no longer includes construction of a trailhead for the Powell Point trail (#6.0) at the junction of the Powell Point non-motorized trail and the end of FS road (#1516), construction of a trailhead for the Gap trail (#1.51) at the end of Forest road (#1370), construction of a trailhead at Clayton Guard Station to serve Grass Lakes (#1.61), Pacer Lake (#4.0), Poison Creek (#3.0) and Antimony Lake (#2.0) motorized trails, or construction of a trailhead for the North Creek lakes non-motorized trail (#1.5). The previously proposed trailhead construction at the above locations included, parking areas, signs and an information kiosk. The proposed parking area at the end of the road #0176 at Row Lakes has also been dropped.

Travel management proposals have also been eliminated. Previously, travel management proposals within the AERP project area included: the closing of 16.3 miles of existing roads with physical barriers and obliteration; and the re-vegetation of 54.6 miles of existing roads.

A portion of the prescribed burning located in sections 10 and 15; T34S; R1W; SLBM has also been dropped. This proposal would have regenerated approximately 200 acres of aspen within the spruce/fir type, with a stand replacing prescribed fire.

An updated scoping notice is available at the office listed below. the DEIS is expected to be available for review by March 2001.

FOR FURTHER INFORMATION CONTACT: Cindy Calbaum, Interdisciplinary Team Leader, (435) 826-5400, Escalante Ranger District, PO Box 246, Escalante, Utah 84726.

Dated: December 6, 2000.
Mary Wagner,
Forest Supervisor.

[FR Doc. 00-31982 Filed 12-14-00; 8:45 am]

BILLING CODE 3410-11-M